NATIONAL SCIENCE FOUNDATION

Advisory Committee for Engineering; Notice of Meeting

In accordance with the Federal Advisory Committee Act (Pub. L. 92-463, as amended), the National Science Foundation (NSF) announces the following meeting:

Name and Committee Code: Advisory Committee for Engineering #1170.

Date and Time: October 21, 2020: 10:30 a.m. to 5:00 p.m.; October 22, 2020: 10:30 a.m. to 4:30 p.m.

Place: National Science Foundation, 2415 Eisenhower Avenue, Alexandria, Virginia 22314 (Virtual).

Type of Meeting: Open.

Contact Person: Evette Rollins, erollins@nsf.gov; 703-292-8300; The forthcoming virtual meeting information and an updated agenda will be posted at https://www.nsf.gov/events/event_summ.jsp?cntn_id=301077&org=ENG.

Purpose of Meeting: To provide advice, recommendations and counsel on major goals and policies pertaining to engineering programs and activities.

Agenda

Wednesday, October 21, 2020

• Directorate for Engineering Report

• NSF Budget Update

• Report and Recommendations From Subcommittee on the SBIR/STTR Program

• Black Lives in Engineering Panel

• E4USA Update

• Division of Industrial Innovation and Partnerships (IIP) Overview

• IIP Committee of Visitors (COV) Report

• Research Translation

• Preparation for Discussion with the Director's Office

Thursday, October 22, 2020

• Broader Impacts

• Perspectives From the Director's Office

• Reports From Advisory Committee Liaisons

• NSF Response to COVID-19 Situation

• Roundtable on Strategic Recommendations for ENG

Dated: September 23, 2020.
Crystal Robinson,
Committee Management Officer.

[FR Doc. 2020-21340 Filed 9-25-20; 8:45 am]

BILLING CODE 7555-01-P